NATIONAL CREDIT UNION ADMINISTRATION

Notice of Meeting

Time and Date: 10 a.m., Thursday, March 18, 2004.

Place: Board Room, 7th Floor, Room 7047, 1775 Duke Street, Alexandria, VA 22314-3428.

Status: Open.

Matters to be Considered: 1. Notice of Proposed Rulemaking: Part 717 of NCUA's Rules and Regulations implementing the Fair and Accurate Credit Transactions Act of 2003—Notice to Members regarding Release of Negative Information to Credit Reporting Agencies.

2. Board Briefing: Part 717 of NCUA's Rules and Regulations regarding Medical Information.

Recess: 11:15 a.m.

Time and Date: 11:30 a.m., Thursday, March 18, 2004.

Place: Board Room, 7th Floor, Room 7047, 1775 Duke Street, Alexandria, VA 22314-3428.

Status: Closed.

Matters to be Considered: 1. One (1) Insurance Appeal. Closed pursuant to Exemption (6).

FOR FURTHER INFORMATION CONTACT: Becky Baker, Secretary of the Board, Telephone: 703-518-6304.

Becky Baker,
Secretary of the Board.

[FR Doc. 04-5900 Filed 3-11-04; 1:29 pm]

BILLING CODE 7535-01-M